DEPARTMENT OF COMMERCE

Bureau of Industry and Security

National Infrastructure Advisory Council; Notice of Open Meeting

Correction

In notice document 02-32435 appearing on page 78415 in the issue of Tuesday, December 24, 2002 make the following correction:

On page 78415, in the first column, in the first paragraph, in the eigth and ninth lines, “1-899-7785” should read, “1-888-899-7785”.

[FR Doc. C2-32435 Filed 12-31-02; 8:45 am]

BILLING CODE 1505-01-D